FEDERAL COMMUNICATIONS COMMISSION

Notice of Public Information Collection(s) Being Reviewed by the Federal Communications Commission

March 29, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 9, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-0739.

Title: Amendment of the Commission's Rules to Establish Competitive Safeguards for Local Exchange Carrier Provision of Commercial Mobile Radio Services.

Form No.: N/A.

Type of Review: Revision of a currently approved collection.

Respondents: Businesses or other for-profit and state, local or tribal government.

Number of Respondents: 32.

Estimated Time Per Response: 2,019 hours.

Frequency of Response: On occasion reporting requirement, third party disclosure requirement, and recordkeeping requirement.

Total Annual Burden: 66,944 hours.

Total Annual Cost: N/A.

Needs and Uses: Incumbent LECs offering in-region broadband Commercial Mobile Radio Services (CMRS) must do so through a separate affiliate. The CMRS affiliate must maintain separate books of account and will be subject to the Commission's joint cost and affiliate transaction rules. The Commission imposes the recordkeeping requirement to ensure that incumbent LECs providing in-region broadband CMRS through a separate affiliate are in compliance with the Communications Act of 1934, as amended, and with Commission policies and regulations.

OMB Control No.: 3060-0626.

Title: Regulatory Treatment of Mobile Services.

Form No.: N/A.

Type of Review: Extension of a currently approved collection.

Respondents: Businesses or other for-profit.

Number of Respondents: 1,074.

Estimated Time Per Response: .50-10 hours.

Frequency of Response: On occasion reporting requirement, recordkeeping requirement.

Total Annual Burden: 6,673 hours.

Total Annual Cost: N/A.

Needs and Uses: The information provides the Commission with technical, operational and licensing data for private mobile radio service licensees that have been reclassified as commercial mobile radio service providers. The information is necessary to establish regulatory symmetry among similar mobile services.

Federal Communications Commission.
Magalie Roman Salas,
Secretary.

[FR Doc. 01-8569 Filed 4-6-01; 8:45 am]

BILLING CODE 6712-01-P